INTERNATIONAL TRADE COMMISSION

[USITC SE-14-036]

Government in the Sunshine Act Meeting Notice

AGENCY HOLDING THE MEETING: United States International Trade Commission.

TIME AND DATE: October 23, 2014 at 11:00 a.m.

PLACE: Room 101, 500 E Street SW., Washington, DC 20436, Telephone: (202) 205-2000.

STATUS: Open to the public.

MATTERS TO BE CONSIDERED: 1. Agendas for future meetings: none.

2. Minutes.

3. Ratification List.

4. Vote in Inv. Nos. 731-TA-1229 and 1230 (Final) (Monosodium Glutamate from China and Indonesia). The Commission is currently scheduled to complete and file its determinations and views of the Commission on November 4, 2014.

5. Vote in Inv. Nos. 701-TA-505 and 731-TA-1231, 1232, 1235, and 1237 (Final) (Grain-Oriented Electrical Steel from China, Czech Republic, Korea, and Russia). The Commission is currently scheduled to complete and file its determinations and views of the Commission on November 4, 2014.

6. Outstanding action jackets: none.

In accordance with Commission policy, subject matter listed above, not disposed of at the scheduled meeting, may be carried over to the agenda of the following meeting.

By order of the Commission.
Issued: October 15, 2014.
William R. Bishop,
Supervisory Hearings and Information Officer.

[FR Doc. 2014-24894 Filed 10-15-14; 4:15 pm]

BILLING CODE 7020-02-P